DEPARTMENT OF ENERGY

Notice of Availability of the Draft Environmental Impact Statement for the Lake Charles Carbon Capture and Sequestration Project (DOE/EIS-0464D)

AGENCY: U.S. Department of Energy.

ACTION: Notice of availability and public hearings.

SUMMARY: The U.S. Department of Energy (DOE) announces the availability of the Lake Charles Carbon Capture and Sequestration Project Draft Environmental Impact Statement (DOE/EIS-0464D) for public review and comment, as well as the dates, locations, and times for two public hearings. The draft environmental impact statement (EIS) analyzes the potential environmental impacts associated with the Lake Charles Carbon Capture and Sequestration Project, which would be constructed and operated by Lake Charles Clean Energy, LLC (LCCE), an affiliate of Leucadia Energy, LLC (Leucadia). Leucadia's proposal was selected by DOE to receive financial assistance under the Industrial Carbon Capture and Sequestration program.

DOE prepared this draft EIS in accordance with the National Environmental Policy Act of 1969 (NEPA) (42 U.S.C. 4321 et seq.), the Council on Environmental Quality (CEQ) regulations that implement the procedural provisions of NEPA (40 CFR Parts 1500-1508), the DOE procedures implementing NEPA (10 CFR Part 1021), the DOE procedures for compliance with floodplain and wetland environmental review requirements (10 CFR Part 1022), and the General Conformity Rule for air emissions in non-attainment or maintenance areas (40 CFR 93.150-165).

DATES: DOE invites the public to comment on the draft EIS during the public comment period, which ends June 25, 2013. DOE will consider all comments postmarked or received during the public comment period in preparing the final EIS and will consider late comments to the extent practicable.

DOE will conduct public hearings on June 4, 2013 at Westlake City Hall, 1001 Mulberry Street, in Westlake, Louisiana, and on June 5, 2013 at Berry Miller Junior High School, 3301 Manvel Road, in Pearland, Texas, to obtain comments on the draft EIS. Requests to speak at the public hearings can be made by calling or writing to Mrs. Pierina N. Fayish (see ADDRESSES). Requests to speak may also be made at the meetings. Comments will be recorded by a court reporter and will become part of the public record. Oral and written comments will be given equal consideration.

The hearings will begin at 6 p.m. with an informational session. The formal presentations and formal comment period will be held from 7 p.m. to approximately 9 p.m., or until all registered commenters have been given the opportunity to speak.

All meetings will be accessible to people with disabilities. Any individual needing specific assistance, such as a sign language interpreter or a translator, should contact Mrs. Fayish (see ADDRESSES) at least 48 hours in advance of the hearings so that arrangements can be made.

ADDRESSES: Requests for information about this draft EIS and requests to receive a copy of it should be directed to: Mrs. Pierina N. Fayish, U.S. Department of Energy, National Energy Technology Laboratory, M/S 922-243D, P.O. Box 10940, Pittsburgh, PA 15236. Additional information about the draft EIS may also be requested by electronic mail: LeucadiaEIS@netl.doe.gov or by telephone at 1-(888)-322-7436, extension 5428. The draft EIS is available for download at http://energy.gov/nepa/and http://www.netl.doe.gov/publications/others/nepa/index.html. Copies of the draft EIS are also available for review at the locations listed in the SUPPLEMENTARY INFORMATION section of this Notice.

Written comments on the draft EIS can be mailed to Mrs. Fayish at the address noted above. Written comments may also be submitted by fax to: (412) 386-4775, or submitted electronically to: LeucadiaEIS@netl.doe.gov. Oral comments on the draft EIS will be accepted verbatim during the public hearings scheduled for the dates and locations provided in the (see DATES) section of this Notice.

FOR FURTHER INFORMATION CONTACT: For further information on the proposed project or the draft EIS, please contact Mrs. Fayish (see ADDRESSES). For general information regarding the DOE NEPA process, please contact: Ms. Carol M. Borgstrom, Director, Office of NEPA Policy and Compliance (GC-54), U.S. Department of Energy, 1000 Independence Avenue SW., Washington, DC 20585; telephone, (202) 586-4600; fax, (202) 586-7031; or leave a message at, (800) 472-2756.

SUPPLEMENTARY INFORMATION: DOE proposes to provide limited financial assistance (approximately $261.4 million), through a cooperative agreement, to Leucadia for the proposed Lake Charles Carbon Capture and Storage (CCS) Project. The total cost of the Lake Charles CCS Project is estimated at $435.6 million (2010 dollars). DOE has already provided a portion of the total funding (approximately $9.5 million) to Leucadia for DOE's share of the costs of preliminary design and project definition.

The Lake Charles CCS Project would involve the capture and sequestration of carbon dioxide (CO2) from the LCCE gasification plant, a petroleum coke gasification plant to be constructed by LCCE in Calcasieu Parish adjacent to the Port of Lake Charles, Louisiana. Approximately 4.6 million tons per year of CO2 generated by the gasification process would be captured, compressed, and delivered via a new connecting pipeline to the existing Green Pipeline for use in existing commercial enhanced oil recovery (EOR) operations in a portion of the West Hastings oil field in Brazoria County, Texas. The project includes a monitoring, verification and accounting (MVA) program aimed at providing an accurate accounting of approximately 1 million tons per year of stored CO2 and a high level of confidence that the CO2 will remain sequestered permanently in a portion in the West Hastings oil field through existing EOR operations. The research MVA activities would supplement on-going monitoring activities conducted in conjunction with existing commercial EOR operations.

Though DOE funds would only apply to the CCS Project, which consists of the carbon capture unit, compression and associated equipment, a new pipeline approximately 12 miles in length connecting the plant to the existing Green Pipeline, and the research MVA program, DOE determined that the LCCE Gasification Plant is a connected action in accordance with 40 CFR 1508.25 (a), and its impacts are analyzed in the draft EIS.

The LCCE gasification plant would use a state-of-the-art process to gasify approximately 2.6 million tons per year of petroleum coke, producing syngas that would be converted into methanol and hydrogen gas. The LCCE gasification plant also produces steam during the gasification and auxiliary processes, which would be used in turbines to generate power, covering a significant portion of the plant's energy demand.

The draft EIS evaluates the potential impacts of DOE's proposed action; Leucadia's proposed project, the connected action, and reasonable alternatives. DOE analyzed two alternatives in the draft EIS: the proposed action described above and the no-action alternative. The proposed project also included an alternative route for the CO2 pipeline and alternative routes for linear facilities for the LCCE gasification plant, all of which are still under consideration and evaluated in the draft EIS.

The draft EIS considers the environmental consequences that may result from the proposed project and describes mitigation that might be used to reduce impacts. Potential impacts identified during the scoping process and analyzed in the draft EIS relate to the following:

Air quality; soils, geology, and mineral resources; ground water; surface water; biological resources; cultural resources; land use; socioeconomics; environmental justice; community services; utility systems; transportation; materials and waste management; human health, safety, and accidents; and noise. Because the proposed project may affect wetlands, the draft EIS includes an assessment of impacts to wetlands in accordance with DOE regulations for Compliance with Floodplains and Wetlands Environmental Review Requirements (10 CFR Part 1022). In accordance with 40 CFR 93.156, DOE is also publishing a draft conformity analysis for the Lake Charles area, which is contained in the draft EIS.

Availability of the Draft EIS

Copies of the draft EIS have been distributed to members of Congress; Native American tribal governments; federal, state, and local officials; and agencies, organizations, and individuals who have expressed interest. The draft EIS will be available on the internet at http://energy.gov/nepa/ and http://www.netl.doe.gov/publications/others/nepa/index.html. Copies of the draft EIS are available for public review at the following locations: Sulphur Regional Library, 1160 Cypress Street in Sulphur, Louisiana; Westlake Library, 937 Mulberry Street in Westlake, Louisiana; Maplewood Library, 91 Center Circle in Sulphur, Louisiana; and Pearland Library, 3522 Liberty Drive in Pearland, Texas. Additional copies also can be requested (see ADDRESSES).

Dated: May 8, 2013.
Mark J. Matarrese,
Director, Office of Environment, Security, Safety & Health, Office of Fossil Energy.

[FR Doc. 2013-11413 Filed 5-13-13; 8:45 am]

BILLING CODE 6450-01-P